FEDERAL COMMUNICATIONS COMMISSION

47 CFR Part 54

[WC Docket Nos. 18-143, 10-90, 14-58; FCC 19-95; FRS 16955]

The Uniendo a Puerto Rico Fund and the Connect USVI Fund, Connect America Fund, ETC Annual Reports and Certifications

AGENCY: Federal Communications Commission.

ACTION: Final rule; announcement of effective date.

SUMMARY: In this document, the Federal Communications Commission (Commission) announces that the Office of Management and Budget (OMB) has approved, for a period of three years, an information collection associated with the rules for the Connect America Fund contained in the Commission's Uniendo a Puerto Rico Fund and Connect USVI Fund Order, FCC 19-95. This document is consistent with the Uniendo a Puerto Rico Fund and Connect USVI Fund Order, which stated that the Commission would publish a document in the Federal Register announcing the effective date of the new information collection requirements.

DATES: The amendments to §§ 54.1505, 54.1508 and 54.1515 published at 84 FR 59937, November 7, 2019 are effective July 30, 2020.

FOR FURTHER INFORMATION CONTACT: Alexander Minard, Wireline Competition Bureau at (202) 418-7400 or TTY (202) 418-0484. For additional information concerning the Paperwork Reduction Act information collection requirements contact Nicole Ongele at (202) 418-2991 or via email: Nicole.Ongele@fcc.gov.

SUPPLEMENTARY INFORMATION: The Commission submitted revised information collection requirements for review and approval by OMB, as required by the Paperwork Reduction Act (PRA) of 1995, on May 20, 2020, which were approved by OMB on July 9, 2020. The information collection requirements are contained in the Commission's Uniendo a Puerto Rico Fund and Connect USVI Fund Order, FCC 19-95 published at 84 FR 59937, November 7, 2019. The OMB Control Number is 3060-1274. If you have any comments on the burden estimates listed in the following, or how the Commission can improve the collections and reduce any burdens caused thereby, please contact Nicole Ongele, Federal Communications Commission, Room 1-A620, 445 12th Street SW, Washington, DC 20554. Please include the OMB Control Number, 3060-1274, in your correspondence. The Commission will also accept your comments via email at PRA@fcc.gov.

To request materials in accessible formats for people with disabilities (Braille, large print, electronic files, audio format), send an email to fcc504@fcc.gov or call the Consumer and Governmental Affairs Bureau at (202) 418-0530 (voice), (202) 418-0432 (TTY).

Synopsis

As required by the Paperwork Reduction Act of 1995 (44 U.S.C. 3507), the Commission is notifying the public that it received OMB approval on July 9, 2020, for the information collection requirements contained in 47 CFR 54.1505, 54.1508 and 54.1515 published at 84 FR 59937, November 7, 2019. Under 5 CFR part 1320, an agency may not conduct or sponsor a collection of information unless it displays a current, valid OMB Control Number.

No person shall be subject to any penalty for failing to comply with a collection of information subject to the Paperwork Reduction Act that does not display a current, valid OMB Control Number. The OMB Control Number is 3060-1274.

The foregoing notice is required by the Paperwork Reduction Act of 1995, Public Law 104-13, October 1, 1995, and 44 U.S.C. 3507.

The total annual reporting burdens and costs for the respondents are as follows:

OMB Control Number: 3060-1274.

OMB Approval Date: July 9, 2020.

OMB Expiration Date: July 31, 2023.

Title: Application for the Uniendo a Puerto Rico Fund and the Connect USVI Fund Stage 2 Fixed Support.

Form Number: FCC Form 5634.

Type of Review: New information collection.

Respondents: Business or other for-profit.

Number of Respondents and Responses: 20 unique respondents; 30 responses.

Estimated Time per Response: 2-80 hours.

Frequency of Response: One-time and annual reporting requirements.

Obligation to Respond: Required to obtain or retain benefits. Statutory authority for this information collection is contained in 47 U.S.C. 151-154, 214, and 254.

Total Annual Burden: 1,620 hours.

Total Annual Cost: No Cost.

Privacy Act Impact Assessment: No impact(s).

Nature and Extent of Confidentiality: Although some information collected in FCC Form 5634 will be made available for routine public inspection, the Commission will withhold certain information collected in FCC Form 5634 from routine public inspection. Specifically, the Commission will treat certain financial and technical information submitted in FCC Form 5634 as confidential. However, if a request for public inspection for this technical or financial information is made under 47 CFR 0.461, and the applicant has any objections to disclosure, the applicant will be notified and will be required to justify continued confidential treatment. To the extent that an applicant seeks to have other information collected in FCC Form 5634 or during the post-selection review process withheld from public inspection, the applicant may request confidential treatment pursuant to 47 CFR 0.459.

Needs and Uses: In the Uniendo a Puerto Rico Fund and Connect USVI Fund Order, the Commission comprehensively reformed the high-cost program within the universal service fund to focus support on networks capable of providing advanced, hardened voice and broadband services in Puerto Rico and the U.S. Virgin Islands (collectively, the Territories). Uniendo a Puerto Rico Fund and the Connect USVI Fund, WC Dockets Nos. 18-143 et al., Report and Order and Order on Reconsideration, 34 FCC Rcd 9109 (PR-USVI Order). As part of the PR-USVI Order, the Commission adopted a single-round competitive proposal process to award Stage 2 support for fixed telecommunications networks in the Territories (Stage 2 Competition).

For the Stage 2 Competition, service providers will compete to receive high-cost support of up to $504.7 million in Puerto Rico and $186.5 million in the U.S. Virgin Islands over 10 years to offer fixed voice and broadband services to all locations in the Territories in accordance with the framework adopted in the PR-USVI Order. The information collection requirements reported under this new collection are the result of the competitive proposal process adopted by the PR-USVI Order to award support to winning applicants. The Commission adopted various rules regarding the eligibility of service providers and the term of support. In addition, the Commission adopted rules to govern the competitive proposal process, which includes information to be submitted by parties as part of their competitive proposals and information that must be submitted by winning bidders seeking to become authorized to receive Stage 2 fixed support. The Commission concluded, based on its experience with awarding high-cost support and consistent with the record, that this single-stage competitive proposal process balances the need to collect information essential to awarding support and authorizing Stage 2 fixed support with administrative efficiency.

The Commission estimates that approximately 20 parties will apply and approximately 10 will be selected as winning applicants. This information collection addresses the burdens associated with these requirements.

Federal Communications Commission.
Marlene Dortch,
Secretary, Office of the Secretary.

[FR Doc. 2020-16348 Filed 7-29-20; 8:45 am]

BILLING CODE 6712-01-P